DEPARTMENT OF EDUCATION

34 CFR Chapter VI

Office of Postsecondary Education; Notice of Negotiated Rulemaking for Programs Authorized Under Title IV of the Higher Education Act of 1965, as Amended

AGENCY: Department of Education.

ACTION: Notice of establishment of negotiated rulemaking committee.

SUMMARY: We announce our intention to establish one or two negotiated rulemaking committees to prepare proposed regulations under Title IV of the Higher Education Act of 1965, as amended (HEA). Each committee will include representatives of organizations or groups with interests that are significantly affected by the subject matter of the proposed regulations. We also announce three public hearings where interested parties can suggest issues that should be considered for action by the negotiating committees. In addition, we request nominations for individual negotiators who represent key stakeholder constituencies that are involved in the student financial assistance programs authorized under Title IV of the HEA to serve on these committees.

DATES: We must receive your nominations for negotiators to serve on the committees on or before November 29, 2007. The dates, times, and locations of the public hearings are listed under the SUPPLEMENTARY INFORMATION section of this notice.

ADDRESSES: Please send your nominations for negotiators to Patty Chase, U.S. Department of Education, 1990 K Street, NW., room 8050, Washington, DC 20006, or by fax to Patty Chase at (202) 502-7874. You may also e-mail your nominations to: Patty.Chase@ed.gov. Those nominated will be notified via letter as to whether or not they have been selected as a negotiator as soon as the Department's review process is completed.

FOR FURTHER INFORMATION CONTACT: For information about the hearings and the nomination submission process, contact: Patty Chase, U.S. Department of Education, 1990 K Street, NW., room 8050, Washington, DC 20006. Telephone: (202) 502-7905. You may also e-mail your questions about the hearings and the nomination submission process to: Patty.Chase@ed.gov.

For information about negotiated rulemaking in general, contact: John Kolotos, U.S. Department of Education, 1990 K Street, NW., room 8018, Washington, DC 20006. Telephone (202) 502-7762. You may also e-mail your questions about negotiated rulemaking to: John.Kolotos@ed.gov.

If you use a telecommunications device for the deaf (TDD), call the Federal Relay Service (FRS), toll free at 1-800-877-8339.

Individuals with disabilities can obtain this document in an alternative format (e.g., Braille, large print, audiotape, or computer diskette) by contacting the person responsible for information about the hearings and the nomination submission process listed in this section under FOR FURTHER INFORMATION CONTACT.

SUPPLEMENTARY INFORMATION: Section 492 of the HEA requires that, before publishing any proposed regulations to implement programs authorized under Title IV of the HEA, the Secretary obtain public involvement in the development of the proposed regulations. After obtaining advice and recommendations from the public, the Secretary uses a negotiated rulemaking process to develop the proposed regulations.

We intend to develop proposed regulations by following the negotiated rulemaking procedures in section 492 of the HEA. We intend to select participants for the negotiated rulemaking committees that represent the interests significantly affected by the proposed regulations. To the extent possible, we will select individual negotiators who reflect the diversity among program participants, in accordance with section 492(b)(1) of the HEA.

Regulatory Issues

We intend to conduct negotiated rulemaking to develop proposed regulations for the new TEACH Grant program, which was added to Title IV of the HEA by the College Cost Reduction and Access Act of 2007 (CCRAA), Pub. L. 110-84. We will also address regulatory changes that will be needed for the Federal Family Education Loan Program (FFEL) and the William D. Ford Direct Loan Program resulting from the enactment of the CCRAA including, but not limited to: rules for income-based repayment; changes to the maximum repayment period; reductions to the lender insurance rates and loan forgiveness for public service employees; and definitions of terms used in the programs. We will also consider whether the regulations need to be amended to implement or reflect Pub. L. 110-93, which made permanent the Secretary's authority under the Higher Education Relief Opportunities for Students Act of 2003 (HEROES Act).

We note that there is legislation currently pending in Congress to reauthorize the HEA. If reauthorization of the HEA is completed prior to the first negotiating session, we may also include on the negotiating agenda additional changes to the regulations that may be needed.

We also expect to conduct negotiated rulemaking on other regulatory issues. These may include issues raised by the public during the regional hearings. Other issues the Department identifies as necessary to improve program administration and accountability will also be negotiated, including potential Federal preemption of State laws that may conflict with the Department's regulations on improper inducements and the use of preferred lender lists in the FFEL program.

We may also consider the establishment of competitive preference priorities within the Gaining Early Awareness and Readiness for Undergraduate Programs (GEAR UP) program.

Structure of the Committees

We anticipate having one or two negotiating committees based upon the nature of the topics to be negotiated. The number of committees and their organization will be determined as necessary, depending upon the comments received as a result of this notice. If one negotiating committee is established, it will address all of the regulatory issues that we identify. If two negotiating committees are established, one negotiating committee would address issues related to the Federal student loan programs authorized by Title IV, Parts B and D of the HEA and the other committee would focus on TEACH Grants and other issues.

Our goal is to establish committees that will allow significantly affected parties to be represented while keeping the committees' size manageable.

We strongly encourage nominations of individuals from coalitions of individuals and organizations representing the constituencies identified below. Moreover, the Department encourages nominations of individuals who are actively involved in administering the Federal programs that are the subject of these negotiated rulemaking sessions and who can represent the interests of groups that are significantly affected by the regulations. The committee or committees can create subgroups to discuss particular topics, such as TEACH Grants, Income-Based Repayment, or the definition of a non-profit holder. The subgroup can also involve in its discussions additional individuals who are not members of the committees. Individuals who are not selected as members of a committee can attend committee meetings, access the individuals representing their constituencies, and participate in informal working groups on various issues between the meetings. Committee meetings will be open to the public.

We have identified the following constituencies as having interests that are significantly affected by the subject matter of the negotiated rulemaking process. The Department anticipates that individuals representing each of these constituencies will participate as members of one or more of the negotiated rulemaking committees. These constituencies are:

• Students.

• Legal assistance organizations that represent students.

• Financial aid administrators at institutions of higher education.

• Business officers and bursars at institutions of higher education.

• Institutional servicers (including collection agencies).

• Trustees.

• State higher education executive officers.

• State Attorneys General and other appropriate State officials.

• Business and industry.

• Institutions of higher education eligible to receive Federal assistance under Title III, Parts A and B, and Title V of the HEA, which include Historically Black Colleges and Universities, Hispanic-Serving Institutions, American Indian Tribally Controlled Colleges and Universities, Alaska Native and Native Hawaiian-Serving Institutions, and other institutions with a substantial enrollment of needy students as defined in Title III of the HEA.

• Two-year public institutions of higher education.

• Four-year public institutions of higher education.

• Private, non-profit institutions of higher education.

• Private, for-profit institutions of higher education.

• Institutions of higher education that prepare teachers.

• Organizations that represent teachers.

• Guaranty agencies and guaranty agency servicers (including collection agencies).

• Lenders, secondary markets, and loan servicers.

• Accrediting agencies.

While an individual selected to represent a constituency may be an employee, official, or representative of a specific group, institution, or industry participant, the individual will be expected to represent the interests of the entire constituency that the individual has been designated to represent on the committee and to confer with other individuals and representatives of groups within that constituency.

Nominations should include the following information:

• The name of the nominee, the organization the individual works for, if any, and a description of the interests that the individual represents.

• Evidence of support from individuals or groups of the constituency that the nominee will represent.

• The nominee's commitment that the nominee will actively participate in good faith in the development of the proposed regulations.

• The nominee's contact information, including address, phone number, fax number, and e-mail address.

Schedule for Negotiations

We anticipate that the negotiating committee(s) will meet in the Washington, DC, area three or more times beginning in January 2008 and concluding no later than April 2008. The dates and locations of these meetings will be published in a subsequent notice in the Federal Register, and will be posted on the Department's Web site at: http://www.ed.gov/policy/highered/reg/hearulemaking/2008/index2008.html.

We will post the schedule for negotiations on this same Web site. Each committee must use electronic mail to exchange documents and discuss proposals between meetings. We anticipate that the schedule will allow sufficient time for us to provide the public with a 60-day comment period for the proposed regulations resulting from the negotiated rulemaking process and sufficient time to address any issues raised in the comment period, while meeting the November 1 statutory deadline for publishing student financial assistance final regulations.

Regional Hearings

We will hold three public regional hearings for interested parties to discuss the agenda for the negotiated rulemaking sessions. These hearings will be held on—

November 2, 2007, at the Sheraton New Orleans, 500 Canal Street, in New Orleans, Louisiana;

November 16, 2007, at the U.S. Department of Education in Washington, DC; and

November 29, 2007, at the Manchester Grand Hyatt San Diego, One Market Place, San Diego, California.

The regional hearings in New Orleans and San Diego will be held from 11 a.m.-3 p.m., local time. The hearing in Washington, DC will be held from 9 a.m.-4 p.m., local time.

Individuals desiring to present comments at the hearings are encouraged to do so. It is likely that each participant choosing to make a statement will be limited to five minutes. Individuals interested in making oral statements will be able to register to make a statement beginning at 10 a.m. for the regional hearings and at 8:30 a.m. on the day of the Washington hearing at the Department's on-site registration table on a first-come, first-served basis. If additional time slots remain, individuals may be given additional time to speak. If no time slots remain, the Department has reserved one additional hour at the end of the day for individuals who were not able to register to speak. The amount of time available will depend upon the number of individuals who register to speak. Speakers may also submit written comments.

In addition, for anyone unable to attend any of the regional hearings, the Department will also accept written comments. You should send your comments to: John Kolotos, U.S. Department of Education, 1990 K Street, NW., room 8018, Washington, DC 20006. All comments must be received by November 29, 2007.

All of the hearing sites are accessible to individuals with disabilities. Individuals needing an auxiliary aid or service to participate in the meeting (e.g., interpreting service, assistive listening device, or materials in alternative format), should notify the contact person for information about hearings listed under FOR FURTHER INFORMATION CONTACT in this notice in advance of the scheduled meeting date. Although we will attempt to meet any request we receive, we may not be able to make available the requested auxiliary aid or service because of insufficient time to arrange it. Further information on the regional hearing sites is available on http://www.ed.gov/policy/highered/reg/hearulemaking/2008/index2008.html.

Electronic Access to This Document: You can view this document, as well as all other documents of this Department published in the Federal Register, in text or Adobe Portable Document Format (PDF) on the Internet at the following site: http://www.ed.gov/news/federalregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1098a.

Dated: October 17, 2007.
Diane Auer Jones,
Assistant Secretary for Postsecondary Education.

[FR Doc. E7-20785 Filed 10-19-07; 8:45 am]

BILLING CODE 4000-01-P